DEPARTMENT OF THE INTERIOR

National Park Service

Manzanar National Historic Site; Notice of Meeting

Notice is hereby given that a public meeting of the Manzanar National Historic Site will be held at 1:00 p.m. on Friday April, 26, 2002 at the Sierra Baptist Church Social Hall, 346 North Edwards Street (U.S. Highway 395), Independence, California, to hear presentations on issues related to the planning, development, and management of Manzanar National Historic Site.

The main agenda will include:

• Status reports on the development of Manzanar National Historic Site by Superintendent Frank Hays;

• General discussion of miscellaneous matters pertaining to future activities and Manzanar National Historic Site development issues;

• Public comment period.

This meeting is open to the public. It will be recorded for documentation and transcribed for dissemination. Minutes of the meeting will be available to the public after approval of the Superintendent. For a copy of the minutes, contact the Superintendent, Manzanar National Historic Site, P.O. Box 426, Independence, CA 93526.

Dated: March 20, 2002.
Frank R. Hays,
Superintendent, Manzanar National Historic Site.

[FR Doc. 02-8814 Filed 4-10-02; 8:45 am]

BILLING CODE 4370-70-M